DEPARTMENT OF ENERGY

Federal Energy Regulatory Commission

[Project No. 3133-033]

Brookfield White Pine Hydro, LLC; Errol Hydro Co., LLC; Notice of Application Tendered for Filing With The Commission and Establishing Procedural Schedule for Licensing and Deadline for Submission of Final Amendments

Take notice that the following hydroelectric application has been filed with the Commission and is available for public inspection.

a. Type of Application: New Major License.

b. Project No.: 3133-033.

c. Date Filed: July 30, 2021.

d. Applicant: Brookfield White Pine Hydro, LLC and Errol Hydroelectric Co., LLC (licensees).

e. Name of Project: Errol Hydroelectric Project (Errol Project).

f. Location: The Errol Project is located on the Androscoggin River and Umbagog Lake, near the Town of Errol, and Township of Cambridge, NH, in Coos Wing County, New Hampshire and the Towns of Magalloway Plantation and Upton in Oxford County, Maine. The project occupies 3,285 acres federal land in the Umbagog National Wildlife Refuge administered by the U.S. Fish and Wildlife Service.

g. Filed Pursuant to: Federal Power Act, 16 U.S.C. 791 (a)-825(r).

h. Applicant Contact: Mr. Tom Uncher, Vice President, Brookfield White Pine Hydro, LLC, Errol Hydroelectric Co., LLC, 339B Big Bay Rd., Queensbury, NY 12804 Phone at: (518) 743-2018 Thomas.Uncher@brookfieldrenewable.com.

i. FERC Contact: Kelly Wolcott at (202) 502-6480 or email at kelly.wolcott@ferc.gov.

j. This application is not ready for environmental analysis at this time.

k. The Errol Project consists of: (1) An existing dam consisting of a 25-foot-high, 202.5- foot-long gated section separated by rock-filled timber or concrete crib piers supporting five sluice gates and seven deep gates, and an earthen dike with a sheet steel cut-off wall on the upstream side, extending approximately 50 feet from the end of the gated section of the dam to the northwestern wall of the powerhouse and then extending another approximately 70 feet from the southeastern powerhouse wall to the eastern embankment; (2) an approximately 9,098-acre project impoundment with a storage capacity of 89,568 acre-feet at a normal pond elevation of 1,247 feet, which includes an approximately 3-mile-long reach of the Androscoggin River above Errol Dam, Umbagog Lake, and approximately 4.3 miles of the Magalloway River; (3) a reinforced concrete powerhouse containing one horizontal double regulated bulb turbine-generator unit with a hydraulic capacity of 2,600 cubic feet per second and an authorized installed generating capacity of 2,031 kilowatts (kW); (4) an approximately 80-foot-long tailrace; (5) a 3,333-kilovolt-ampere substation power transformer; and (6) appurtenant facilities.

The Errol Project is operated in accordance with the current license, and three water agreements that dictate operational flows in the watershed for other hydropower developments and for waterfowl nesting, with an estimated annual energy production of approximately 15,944 megawatt hours. The licensees propose to operate the project allowing for seasonal flows necessary for waterfowl nesting in Umbagog Lake and spring runoff and does not propose any new construction to the project. A license amendment was issued for the project in 2016 (156 FERC ¶ 62,045 (2016)), which approved the installation of a sixth turbine generator unit, which would increase the total installed capacity to 3,542.5 kW; however, the additional generator unit has not yet been installed.

l. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | September 2021.
Request Additional Information | September 2021.
Notice of Acceptance December | 2021.
Notice of Ready for Environmental Analysis TBD

o. Final amendments to the application must be filed with the Commission no later than 30 days from the issuance date of the notice of ready for environmental analysis.

Dated: August 6, 2021.
Debbie-Anne A. Reese,
Deputy Secretary.

[FR Doc. 2021-17240 Filed 8-11-21; 8:45 am]

BILLING CODE 6717-01-P